DEPARTMENT OF JUSTICE

Notice of Lodging of a Consent Decree Pursuant to the Comprehensive Environmental Response, Compensation, and Liability Act

Notice if hereby given that a proposed consent order in United States v. Southwire Company, Civil No. 4:01CV-182-M, was lodged on October 24, 2001, with the United States District Court for the Western District of Kentucky, Owensboro Division (“Southwire Decree”). The proposed Consent Degree would resolve certain claims under Sections 106 and 107 of the Comprehensive Environmental Response, Compensation, and Liability Act of 1980, 42 U.S.C. 9606 and 9607, as amended, to recover response costs incurred by the Environmental Protection Agency in connection with the release of hazardous substances at the National Southwire Aluminum Superfund Site (“the Site”) in Hawesville, Hancock County, Kentucky. The United States alleges that Southwire Company (“Settling Defendent”), is liable as a person who owned and operated the Site at the time of the release or threatened release of a hazardous substances. Under the proposed Consent Degree, Settling Defendent will perform the remedy for the Site set forth in the Environmental Protection Agency's July 6, 2000 Record of Decision, pay one hundred percent of past response costs in the amount of $326,520.83, and pay one hundred percent of future site costs that the Environmental Protection Agency may incur.

The Department of Justice will receive, for a period of thirty (30) days from the date of this publication, comments relating to the proposed Consent Degree. Comments should be addressed to the Assistant Attorney General for the Environment and Natural Resources Division, Department of Justice, P.O. Box 7611, Washington, DC 20530, and should refer to United States v. Southwire Company, W.D. KY, Civil No. 4:01 CV-182-M, DOJ Ref #90-11-3-1148/1.

The Consent Degree may be examined at the Region 4 Office of the Environmental Protection Agency, 61 Forsyth Street, Atlanta, GA 30303 and at the United States Attorney's Office for the Western District of Kentucky, 510 West Broadway, 10th Floor, Louisville, KY 40202, c/o Candace Hill, Civil Chief, United States Attorney's Office. A copy of the proposed Consent Degree (without attachments) may be obtained by mail from the Consent Decree Library, Post Office Box 7611, Washington, DC 20044. In requesting copies please refer to the referenced case and enclose a check in the amount of $10.75 (25 cents per page reproduction costs), payable to the Consent Decree Library.

Ellen Mahan,
Assistant Section Chief, Environmental Enforcement Section, Environment and Natural Resources Division.

[FR Doc. 01-28366 Filed 11-9-01; 8:45 am]

BILLING CODE 4410-15-M